DEPARTMENT OF ENERGY

Office of Energy Efficiency and Renewable Energy

AGENCY: Office of Energy Efficiency and Renewable Energy, Department of Energy.

ACTION: Notice of open meeting.

SUMMARY: This notice announces a meeting of the State Energy Advisory Board. Federal Advisory Committee Act (Pub. L. 92-463; 86 Stat. 770) requires that public notice be announced in the Federal Register.

DATE: April 12, 2001 from 8 a.m. to 5 p.m., and April 13, 2001 from 8 a.m. to 1 p.m. Phone: 202/737-2200.

Place: Grand Hyatt Washington, 1000 H Street, NW., Washington, DC 20001 (202) 582-1234.

FOR FURTHER INFORMATION CONTACT: William J. Raup, Office of Planning, Budget, and Outreach, Energy Efficiency and Renewable Energy, U.S. Department of Energy (DOE), Washington, DC 20585, Telephone 202/586-2214.

SUPPLEMENTARY INFORMATION: Purpose of the Board: To make recommendations to the Assistant Secretary for Energy Efficiency and Renewable Energy regarding goals and objectives and programmatic and administrative policies, and to otherwise carry out the Board's responsibilities as designated in the State Energy Efficiency Programs Improvement Act of 1990 (Pub.L. 101-440).

Tentative Agenda

• STEAB Committee Updates

• Report on February 23, 2001 STEAB Budget Committee Meeting

• STEAB Annual Report

• Energy Policy Disscussion

Public Participation: The meeting is open to the public. Written statements may be filed with the Board either before or after the meeting. Members of the public who wish to make oral statements pertaining to agenda items should contact William J. Raup at the address or telephone number listed above. Requests to make oral presentations must be received five days prior to the meeting; reasonable provision will be made to include the statements in the agenda. The Chair of the Board is empowered to conduct the meeting in a fashion that will facilitate the orderly conduct of business. This notice is being published less than 15 days before the date of the meeting due to programmatic issues that had to be resolved prior to publication.

Minutes: The minutes of the meeting will be available for public review and copying within 30 days at the Freedom of Information Public Reading Room, 1E-190, Forrestal Building, 1000 Independence Avenue, SW., Washington, DC, between 9 a.m. and 4 p.m., Monday through Friday, except Federal holidays.

Issued at Washington, DC, on March 27, 2001.
Rachel Samuel,
Deputy Advisory Committee Management Officer.

[FR Doc. 01-8104 Filed 4-2-01; 8:45 am]

BILLING CODE 6450-01-P